NATIONAL SCIENCE FOUNDATION

Advisory Committee for Mathematical and Physical Sciences; Notice of Meeting

In accordance with Federal Advisory Committee Act (Pub. L. 92-463, as amended), the National Science Foundation announces the following meeting:

Name: Directorate for Mathematical and Physical Sciences Advisory Committee (#66).

Date/Time: June 17, 2010 2 p.m.-4 p.m.

Place: National Science Foundation, 4201 Wilson Boulevard, Arlington, VA 22230, Room 110 (teleconference).

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Report of the Committee of Visitors for the Division of Chemistry Report of the Committee of Visitors for the Division of Mathematical Sciences.

Summary Minutes: May be obtained from the contact person listed above.

Dated: May 19, 2010.
Susanne E. Bolton,
Committee Management Officer.

[FR Doc. 2010-12494 Filed 5-24-10; 8:45 am]

BILLING CODE 7555-01-P